DEPARTMENT OF THE INTERIOR

National Park Service

[NPS-WASO-NAGPRA-NPS0039963; PPWOCRADN0-PCU00RP14.R50000]

Notice of Intended Disposition: U.S. Department of the Interior, Fish and Wildlife Service, Washington Maritime National Wildlife Refuge Complex, Sequim, WA

AGENCY: National Park Service, Interior.

ACTION: Notice.

SUMMARY: In accordance with the Native American Graves Protection and Repatriation Act (NAGPRA), the U.S. Department of the Interior, Fish and Wildlife Service, Washington Maritime National Wildlife Refuge Complex intends to carry out the disposition of human remains removed from Federal or Tribal lands to the lineal descendants, Indian Tribe, or Native Hawaiian organization with priority for disposition in this notice.

DATES: Disposition of the human remains in this notice may occur on or after May 19, 2025. If no claim for disposition is received by April 20, 2026 the human remains in this notice will become unclaimed human remains.

ADDRESSES: Lorenz Sollmann, Refuge Manager, U.S. Fish and Wildlife Service, Washington Maritime National Wildlife Refuge Complex, 715 Holgerson Road, Sequim, WA 98382, telephone (360) 369-0566, email lorenz_sollmann@fws.gov.

SUPPLEMENTARY INFORMATION: This notice is published as part of the National Park Service's administrative responsibilities under NAGPRA. The determinations in this notice are the sole responsibility of the Washington Maritime National Wildlife Refuge Complex, and additional information on the determinations in this notice, including the results of consultation, can be found in its inventory or related records. The National Park Service is not responsible for the determinations in this notice.

Abstract of Information Available

Based on the information available, human remains representing, at least, one individual has been reasonably identified. No associated funerary objects are present. The individual was discovered on or about 10 September 2021 on Washington Maritime National Wildlife Refuge in Jefferson County, Washington. A private citizen who was kayaking stopped on a small island and collected a single bone that was exposed on the surface of the site, concerned that it may be part of a crime scene. They submitted the bone to the Jefferson County Sherriff's Office, who determined the remains did not belong to a recent crime scene. The bone was turned over to the Washington Department of Archaeology and Historic Preservation's physical anthropologist, who determined that the individual is of Native American ancestry, and that the bone was from a previously known Native American archaeological site which has a previously recorded cemetery (45JE11). Officials at the Washington Maritime National Wildlife Refuge were informed and engaged in Consultation with culturally affiliated Tribes.

Determinations

The Washington Maritime National Wildlife Refuge Complex has determined that:

• The human remains described in this notice represent the physical remains of one individual of Native American ancestry.

• The Jamestown S'Klallam Tribe; Lower Elwha Tribal Community; Port Gamble S'Klallam Tribe; Puyallup Tribe the Puyallup Reservation; Samish Indian Nation; Skokomish Indian Tribe; Suquamish Indian Tribe of the Port Madison Reservation; and the Swinomish Indian Tribal Community have priority for disposition of the human remains described in this notice.

Claims for Disposition

Written claims for disposition of the human remains in this notice must be sent to the authorized representative identified in this notice under ADDRESSES. If no claim for disposition is received by April 20, 2026 the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains described in this notice may occur on or after May 19, 2025. If competing claims for disposition are received, the Washington Maritime National Wildlife Refuge Complex must determine the most appropriate claimant prior to disposition. Requests for joint disposition of the human remains are considered a single request and not competing requests. The Washington Maritime National Wildlife Refuge Complex is responsible for sending a copy of this notice to the Indian Tribes and Native Hawaiian organizations identified in this notice.

Authority: Native American Graves Protection and Repatriation Act, 25 U.S.C. 3002, and the implementing regulations, 43 CFR 10.7.

Dated: April 8, 2025.
Melanie O'Brien,
Manager, National NAGPRA Program.

[FR Doc. 2025-06651 Filed 4-17-25; 8:45 am]

BILLING CODE 4312-52-P